NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on December 6-8, 2007, 11545 Rockville Pike, Rockville, Maryland. The date of this meeting was previously published in the Federal Register on Wednesday, November 15, 2006 (71 FR 66561).

Thursday, December 6, 2007, Conference Room T-2b3, Two White Flint North, Rockville, Maryland

8:30 a.m.-8:35 a.m.: Opening Remarks by the ACRS Chairman (Open)—The ACRS Chairman will make opening remarks regarding the conduct of the meeting.

8:35 a.m.-10:30 a.m.: Draft Final NUREG-1829, “Estimating Loss-of-Coolant Accident (LOCA) Frequencies Through the Elicitation Process,” and Draft NUREG-XXXX, “Seismic Considerations for the Transition Break Size” (Open)—The Committee will hear presentations by and hold discussions with representatives of the NRC staff regarding draft NUREG reports on estimating LOCA frequencies through the expert elicitation process and on seismic considerations for the transition break size.

10:45 a.m.-12:15 p.m.: AREVA Enhanced Option III Long Term Stability Solution (Topical Report ANP-10262) (Open/Closed)—The Committee will hear presentations by and hold discussions with representatives of the NRC staff and AREVA regarding AREVA Topical Report ANP-10262 on Enhanced Option III Long Term Stability Solution.

Note: A portion of this session may be closed to discuss and protect information that is proprietary to AREVA and their contractors pursuant to 5 U.S.C. 552b(c)(4).

]

1:15 p.m.-3:15 p.m.: State-of-the-Art Reactor Consequence Analysis (SOARCA) (Open/Closed)—The Committee will hear presentations by and hold discussions with representatives of the NRC staff regarding State-of-the-Art Reactor Consequence Analysis.

Note: A portion of this session may be closed to discus and protect information classified as National Security information as well as Safeguards information pursuant to 5 U.S.C. 552b(c)(1) and (3).

3:30 p.m.-5:30 p.m.: Draft ACRS report on the NRC Safety Research Program (Open)—The Committee will discuss the draft ACRS report on the NRC Safety Research Program.

5:45 p.m.-7 p.m.: Preparation of ACRS Reports (Open)—The Committee will discuss proposed ACRS reports.

Friday, December 7, 2007, Conference Room T-2B3, Two White Flint North, Rockville, Maryland

8:30 a.m.-8:35 a.m.: Opening Remarks by the ACRS Chairman (Open)—The ACRS Chairman will make opening remarks regarding the conduct of the meeting.

8:35 a.m.-11:15 a.m.: Extended Power Uprate Application for the Susquehanna Nuclear Power Plant (Open/Closed)—The Committee will hear presentations by and hold discussions with representatives of the NRC staff and the Pennsylvania Power & Light Company regarding the Extended Power Uprate Application for the Susquehanna Nuclear Power Plant and the associated NRC staff's Safety Evaluation.

Note: A portion of this session may be closed to discuss and protect information that is proprietary to General Electric and their contractors pursuant to 5 U.S.C. 552b(c)(4).

11:30 a.m.-12 p.m.: Subcommittee Report (Open)—The Committee will hear a report by and hold discussions with the Chairman of the ACRS Subcommittee on ESBWR regarding items discussed during the meeting on November 15, 2007.

1:30 p.m.-2:30 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2:30 p.m.-2:45 p.m.: Reconciliation of ACRS Comments and Recommendations (Open)—The Committee will discuss the responses from the NRC Executive Director for Operations to comments and recommendations included in recent ACRS reports and letters.

2:45 p.m.-3:15 p.m.: Election of ACRS Officers for CY 2008 (Open)—The Committee will elect the Chairman and Vice-Chairman for the ACRS and Member-at-Large for the Planning and Procedures Subcommittee for CY 2008.

3:30 p.m.-7 p.m.: Preparation of ACRS Reports (Open)—The Committee will discuss proposed ACRS reports.

Saturday, December 8, 2007, Conference Room T-2b3, Two White Flint North, Rockville, Maryland

8:30 a.m.-1 p.m.: Preparation of ACRS Reports (Open)—The Committee will continue its discussion of proposed ACRS reports, as well as the draft ACRS report on the NRC Safety Research Program.

1 p.m.-1:30 p.m.: Miscellaneous (Open)—The Committee will discuss matters related to the conduct of Committee activities and matters and specific issues that were not completed during previous meetings, as time and availability of information permit.

Procedures for the conduct of and participation in ACRS meetings were published in the Federal Register on September 26, 2007 (72 FR 54695). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close portions of this meeting noted above to discuss and protect information classified as proprietary to General Electric, AREVA, and their contractors pursuant to 5 U.S.C 552b (c) (4), and National Security information as well as Safeguards information pursuant to 5 U.S.C. 552b (c) (1) and (3).

Further information regarding topics to be discussed, whether the meeting has been canceled or rescheduled, as well as the Chairman's ruling on requests for the opportunity to present oral statements and the time allotted therefor can be obtained by contacting Mr. Girija S. Shukla, Cognizant ACRS staff (301-415-6855), between 7:30 a.m. and 4 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACRS meetings. Those wishing to use this service for observing ACRS meetings should contact Mr. Theron Brown, ACRS Audio Visual Technician (301-415-8066), between 7:30 a.m.- and 3:45 p.m., (ET), at least 10 days before the meeting to ensure the availability of this service. Individuals or organizations requesting this service will be responsible for telephone line charges and for providing the equipment and facilities that they use to establish the video teleconferencing link. The availability of video teleconferencing services is not guaranteed.

The ACRS meeting previously scheduled for April 3-5, 2008, and published in the Federal Register on October 22, 2007 (72 FR 59573), is rescheduled for April 10-12, 2008.

Dated: November 14, 2007.
Andrew L. Bates,
Advisory Committee Management Officer.

[FR Doc. E7-22641 Filed 11-19-07; 8:45 am]

BILLING CODE 7590-01-P